DEPARTMENT OF DEFENSE

Department of the Army; Corps of Engineers

Rio de Flag Flood Control Study Environmental Impact Statement

AGENCY: U.S. Army Corps of Engineers, DoD.

ACTION: Notice (extension of comment period).

SUMMARY: Notice of Availability of the public review and comment period for the Study, City of Flagstaff, Coconino County, Arizona; dated November 1999 was published in the Federal Register, Volume 64, No. 223 on November 19, 1999. Due to additional concerns and requests from the public, the review period for this proposed project has been extended to March 31, 2000.

FOR FURTHER INFORMATION CONTACT: Mr. David Compas, (213) 452-3850.

SUPPLEMENTARY INFORMATION: None.

Gregory D. Showalter,
Army Federal Register Liaison Officer.

[FR Doc. 00-1822 Filed 1-25-00; 8:45 am]

BILLING CODE 3710-KF-M